DEPARTMENT OF AGRICULTURE

Natural Resources Conservation Service

Webber Pond Fish Passage, Webber Pond Watershed, Vassalboro, ME

AGENCY: Natural Resources Conservation Service, USDA.

ACTION: Notice of availability of Finding of No Significant Impact.

SUMMARY: The Natural Resources Conservation Service (NRCS) has prepared an Environmental assessment (EA) for the Webber Pond Fish Passage Project, Vassalboro, Maine. NRCS has found that the installation of an Alaska Steep Pass Fishway, American eel passage ladder and water control structure would not result in a significant impact on the quality of the human environment, particularly when focusing on the significant adverse effects that National Environmental Policy Act (NEPA) is intended to help decision makers avoid and mitigate. Therefore, NRCS has prepared a Finding of No Significant Impact (FONSI) in compliance with the (NEPA), as amended, and gives notice that an environmental impact statement is not being prepared.

FOR FURTHER INFORMATION CONTACT: Single copies of the EA and FONSI documents, may be obtained by contacting Amanda Burton, Soil Conservationist, USDA-NRCS, 21 Enterprise Drive, Suite 1, Augusta, ME 04330, (207) 622-7847 ext. 3. For additional information related to this notice, contact Dianne C. Guidry, Acting State Conservationist, Natural Resources Conservation Service, 967 Illinois Avenue, Suite 3, Bangor, Maine 04401-2700; telephone (207) 990-9100 ext. 3.

DATES: Effective Date: Comments on the EA and FONSI must be received on or before the effective date on March 28, 2008.

SUPPLEMENTARY INFORMATION: The sponsoring local organization, Maine Department of Marine Resources (MDMR), concurs with this determination and agrees with carrying forward the proposed project. The objective of the sponsoring local organization is to create fish passage and water control structure in the Webber Pond Dam in order to provide passage for migrating anadromous fish.

The FONSI has been forwarded to the Federal Energy Regulatory Agency and to various Federal, State and local agencies and interested parties.

No administrative action on implementation of the proposed action will be taken until 30 days after the date of this publication in the Federal Register.

Dated: February 6, 2008.
Dianne C. Guidry,
Acting State Conservationist.

[FR Doc. 08-801 Filed 2-21-08; 8:45 am]

BILLING CODE 3410-16-M